FEDERAL EMERGENCY MANAGEMENT AGENCY

44 CFR Part 67

[Docket No. FEMA-D-7552]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is 90 days following the second publication of this proposed rule in a newspaper of local circulation in each community.

ADDRESSES: The proposed base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street, SW., Washington, DC 20472, (202) 646-2878, or (email) mike.grimm@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) • Elevation in feet (NAVD): Existing | #Depth in feet above ground. *Elevation in feet (NGVD) • Elevation in feet (NAVD): Modified | Communities affected
North Carolina
Carteret County (Unincorporated Areas)
Cedar Swamp Creek | At the confluence with Newport River | None | • 9 | Town of Newport, Carteret
| Approximately 800 feet upstream of Forest Route #154 | None | • 26 | County (Unincorporated Areas)
Cypress Drain | At the conference with Newport River | None | • 17 | Carteret County (Unincorporated Areas)
| Approximately 1,400 feet upstream of Lake Road | None | • 21 |
Hadnot Creek | Approximately 350 feet upstream of Old Church Road | None | • 9 | Carteret County (Unincorporated Areas)
| Approximately 2.0 miles upstream of Forest Route $176 | None | • 33 |
Hadnot Creek Tributary | At the Confluence with Hadnot Creek | None | • 14 | Carteret County (Unincorporated Areas)
| Approximately 1.3 miles upstream of confluence with Hadnot Creek | None | • 30 |
Hunters Creek | At the confluence with White Oak River | None | • 9 | Carteret County (Unincorporated Areas)
| Approximately 750 feet upstream of confluence of Wolf Swamp | None | • 24 |
Juniper Branch | At the confluence with Southwest Prong Newport River | None | • 23 | Carteret County (Unincorporated Areas)
| Approximately 0.4 mile upstream of Forest Route #177 | None | • 30 |
Main Prong | At the confluence with Black Creek | None | • 9 | Carteret County (Unincorporated Areas)
| Approximately 2.0 miles upstream of confluence with Black Creek | None | • 23 |
Newport River | At upstream side of Highway 70 | None | • 9 | Town of Newport, Carteret
| Approximately 800 feet upstream of confluence of Cypress Drain | None | • 18 | County (Unincorporated Areas)
Pettiford Creek | At the confluence with Pettiford Creek Bay | None | • 7 | Carteret County (Unincorporated Areas)
| Approximately 2.0 miles upstream of Millis Road | None | • 35 |
Pettiford Creek Tributary 1 | At the confluence with Pettiford | None | • 13 | Carteret County (Unincorporated Areas)
| Creek Approximately 1.8 miles upstream of confluence with Pettiford Creek | None | • 26 |
Shoe Branch | At the confluence with Newport River | None | • 10 | Town of Newport, Carteret
| Approximately 0.8 mile upstream of Tom Mann Road | None | • 27 | County (Unincorporated Areas)
Southwest Prong of Newport River | At the confluence with Newport River | None | • 11 | Town of Newport, Carteret County (Unincorporated Areas)
| Approximately 1,050 feet upstream of confluence of Millis Swamp | None | • 26 |
Wolf Swamp | At the confluence with Hunters Creek | None | • 23 | Carteret County (Unincorporated Areas)
| Approximately 430 feet upstream of Forest Route #174 | None | • 34 |
Town of Newport
Maps available for inspection at the Newport Town Hall, 200 Howard Boulevard, Newport, North Carolina.
Send comments to The Honorable Derryl Garner, Mayor of the Town of Newport, P.O. Box 1869, 200 Howard Boulevard, Newport, North Carolina 28570.
Carteret County (Unincorporated Areas)
Maps available for inspection at the Carteret County Planning and Inspection, Court House Square, Beaufort, North Carolina.
Send comments to Mr. Pete Allen, Carteret County Manager, County Manager's Office, Courthouse Square, Beaufort, North Carolina 28516.

Dated: January 10, 2003.
(Catalog of Federal Domestic Assistance No. 83.100, “Flood Insurance”)
Anthony S. Lowe,
Administrator, Federal Insurance and Mitigation Administration.

[FR Doc. 03-1085 Filed 1-16-03; 8:45 am]

BILLING CODE 6718-04-P